FEDERAL RETIREMENT THRIFT INVESTMENT BOARD

Sunshine Act Meeting; Notice of Board Member Meeting

Agenda

Federal Retirement Thrift Investment Board

July 24, 2017, 8:30 a.m. (In-Person)

77 K Street NE., 10th Floor, Washington, DC 20002

Open Session

1. Approval of the Minutes for the June 26, 2017 Board Members' Meeting

2. Monthly Reports

(a) Participant Activity Report

(b) Legislative Report

3. Quarterly Reports

(a) Investment Performance Review

(b) Budget Review

4. Blended Retirement Update

5. IT Update

Closed Session

Information covered under 5 U.S.C. 552b(c)(9)(B) and (c)(10).

Adjourn

CONTACT PERSON FOR MORE INFORMATION: Kimberly Weaver, Director, Office of External Affairs, (202) 942-1640.

Dated: July 13, 2017.
Megan Grumbine,
General Counsel, Federal Retirement Thrift Investment Board.

[FR Doc. 2017-15064 Filed 7-13-17; 4:15 pm]

BILLING CODE 6760-01-P